POSTAL SERVICE

Privacy Act of 1974; System of Records

AGENCY: Postal Service™.

ACTION: Notice of modified systems of records.

SUMMARY: The United States Postal Service® (Postal Service) is proposing to modify several General Privacy Act Systems of Records (SOR) to support improved communication efforts within USPS Human Resources employee applications or systems, to sponsor and support a voluntary wellness challenge and program initiative for employees to promote fitness and health, and to reflect recent organizational changes.

DATES: These revisions will become effective without further notice on September 17, 2021, unless, in response to comments received on or before that date result in a contrary determination.

ADDRESSES: Comments may be submitted via email to the Privacy and Records Management Office, United States Postal Service Headquarters (privacy@usps.gov). To facilitate public inspection, arrangements to view copies of any written comments received will be made upon request.

FOR FURTHER INFORMATION CONTACT: Janine Castorina, Chief Privacy and Records Management Officer, Privacy and Records Management Office, 202-268-3069 or privacy@usps.gov.

SUPPLEMENTARY INFORMATION: This notice is in accordance with the Privacy Act requirement that agencies publish their systems of records in the Federal Register when there is a revision, change, or addition, or when the agency establishes a new system of records. The Postal Service is proposing revisions to existing systems of records (SOR) to facilitate improved employee communication efforts, to support a voluntary wellness challenge and program initiative for employees, and to update system manager titles consistent with the current organizational structure of the Postal Service.

I. Background

The Postal Service utilizes a modern integrated Human Resources technology system to help optimize, manage, and develop the Postal Service workforce to meet identified business needs. It contains modules for learning, succession planning, performance evaluation, compensation, recruiting/on-boarding and analytical reporting.

The Postal Service is also developing a voluntary wellness initiative to assist participating employees in achieving their individual wellness goals. The voluntary wellness challenges and programs initiative is designed to provide motivation and enhanced engagement to participating employees that have expressed interest in improving their health or achieving wellness goals through the use of individual or team challenges and related wellness programs.

The wellness initiative will track and report challenge activities and summarize outcomes during each program cycle period using anonymous designations for individual employees. For example, participant alias names will be used in all wellness program dashboard participant input and activity reporting to protect the privacy of individuals. In addition, at the end of each program cycle, top tier final results and/or random prize winners (when applicable) will be reported only after obtaining individual employee permission.

II. Rationale for Changes to USPS Privacy Act Systems of Records

The Postal Service is proposing modifications to USPS SOR 100.000, General Personnel Records, USPS SOR 100.100, Recruiting, Examining, and Placement Records, USPS SOR 100.300, Employee Development and Training Records and USPS SOR 100.400, Personnel Compensation and Payroll Records to facilitate improved communication to employees. Human Resources requires the need to capture and store an employee's personal email and phone number for both pre-hire and after the effective date of the appointment in order to:

Communicate relevant Human Resource information to employees.

Communicate with employees about human resource related topics, employment, and gather feedback through surveys. Communicate with employees regarding training assignments and requirements both prior to and after effective date of employment or placement.

New purposes are also being added to SOR 100.300, Employee Development and Training Records to reflect enhanced capabilities and functionality for the USPS career learning and development portal. This portal provides a collaborative employee forum that promotes information sharing and cross-functional participation. Opportunities are also provided for sharpening professional skills and abilities, along with personal development.

New purposes are being added to SOR 100.400, Personnel Compensation and Payroll Records, in support of both improved communication efforts and the Voluntary Wellness Challenge and Program initiative described above. In addition, Categories of Records, Source Record Categories and Retention time for records related to the Wellness Challenge and Program participation are being modified to support the initiative and align with two new purposes for program administration, along with tracking activities and reporting summary results.

Finally, the Postal Service is proposing administrative changes for system managers within the four SORs included in this Federal Register Notice to reflect recent organizational changes.

III. Description of the Modified Systems of Records

Pursuant to 5 U.S.C. 552a(e)(11), interested persons are invited to submit written data, views, or arguments on this proposal. A report of the proposed revisions to these SORs has been sent to Congress and to the Office of Management and Budget for their evaluations. The Postal Service does not expect that these modified systems of records will have any adverse effect on individual privacy rights. Accordingly, for the reasons stated above, the Postal Service proposes revisions to these four systems of records as follows:

SYSTEM NAME AND NUMBER:

USPS 100.000 General Personnel Records.

SECURITY CLASSIFICATION:

None.

SYSTEM LOCATION:

All USPS facilities and personnel offices; Integrated Business Solutions Services Centers; National Personnel Records Center; Human Resources Information Systems; Human Resources Shared Services Center; Headquarters; Computer Operations Service Centers; and contractor sites.

SYSTEM MANAGER(S) AND ADDRESS:

Vice President, Human Resources, United States Postal Service, 475 L'Enfant Plaza SW, Washington, DC 20260.

AUTHORITY FOR MAINTENANCE OF THE SYSTEM:

39 U.S.C. 401, 410, 1001, 1005, and 1206.

PURPOSE(S) OF THE SYSTEM:

1. To determine suitability for employment.

2. To provide managers, HR personnel, and medical officers with information for recruiting and recommending appointment of qualified individuals.

3. To facilitate communication between the Postal Service and individual employees, new hires and applicants, including current and former employees.

4. To share relevant information and topics about the Postal Service with individual employees, new hires and applicants, including current and former employees.

5. To gather voluntary feedback from individual employees, new hires and applicants, including current and former employees.

CATEGORIES OF INDIVIDUALS COVERED BY THE SYSTEM:

Current and former USPS employees, retirees, new hires, applicants for employment, and potential applicants with candidate profiles.

CATEGORIES OF RECORDS IN THE SYSTEM:

1. Current and former USPS employee's information, retirees, new hires, applicants, and potential applicants with candidate profiles: Name(s), Social Security Number(s), Candidate Identification Number, Employee Identification Number, date(s) of birth, postal assignment or vacancy/job posting history information, work contact information, home address(es) and phone number(s), SMS text message number, personal email address, finance number(s), duty location, and pay location.

2. Pre-employment investigation information: Records compiled by USPS, including criminal, employment, military, and driving records; drug screening and medical assessment results. Also includes Special Agency Check with Inquiries (SACI) and National Agency Check with Inquiry (NACI): Investigative records requested by USPS and compiled by the Office of Personnel Management (OPM) for newly hired employees, including postal inspectors' investigative reports.

3. Recruiting, examining, and placement information: Records related to candidate profiles, applications, test results, interview documentation, and suitability screening.

RECORD SOURCE CATEGORIES:

Applicants; potential applicants with candidate profiles; OPM; police, driving, and military records; former employers and named references; medical service providers; school officials; other federal agencies; and state divisions of vocational rehabilitation counselors.

ROUTINE USES OF RECORDS MAINTAINED IN THE SYSTEM, INCLUDING CATEGORIES OF USERS AND THE PURPOSES OF SUCH USES:

Standard routine uses 1. through 9. apply.

POLICIES AND PRACTICES FOR STORAGE OF RECORDS:

Automated database, computer storage media, digital files, and paper files.

POLICIES AND PRACTICES FOR RETRIEVAL OF RECORDS:

By applicant or employee name, Social Security Number, Candidate Identification Number, Employee Identification Number, duty or pay location, or posting/vacancy to which application was made.

POLICIES AND PRACTICES FOR RETENTION AND DISPOSAL OF RECORDS:

1. Preemployment investigation records are retained 10 years from the date the individual is initially found suitable for employment, or 10 years from the date action was taken to deny or terminate employment.

2. Candidate information and Candidate Identification Number are retained for a minimum of 2 years. Vacancy files, including applicant/employee name, identification number, posting/vacancy number, and information supplied by applicant/employee in response to the vacancy posting, are retained 5 years. Employment registers are retained 10 years. Certain forms related to a successful applicant are filed in the electronic Official Personnel Folder as permanent records.

3. Paper examining answer sheets are retained 6 months; and computer media copies are retained 10 years. Scanned Maintenance Selection System forms are retained 10 years, and related hiring lists are retained 5 years.

Records existing on paper are destroyed by burning, pulping, or shredding. Records existing on computer storage media are destroyed according to the applicable USPS media sanitization practice.

ADMINISTRATIVE, TECHNICAL, AND PHYSICAL SAFEGUARDS:

Paper records, computers, and computer storage media are located in controlled-access areas under supervision of program personnel. Access to these areas is limited to authorized personnel, who must be identified with a badge.

Access to records is limited to individuals whose official duties require such access. Contractors and licensees are subject to contract controls and unannounced on-site audits and inspections.

Computers are protected by mechanical locks, card key systems, or other physical access control methods. The use of computer systems is regulated with installed security software, computer logon identifications, and operating system controls including access controls, terminal and transaction logging, and file management software.

RECORD ACCESS PROCEDURES:

Requests for access must be made in accordance with the Notification Procedure above and USPS Privacy Act regulations regarding access to records and verification of identity under 39 CFR 266.5.

CONTESTING RECORD PROCEDURES:

See Notification Procedures below and Record Access Procedures above.

NOTIFICATION PROCEDURES:

Individuals wanting to know if information about them is maintained in this system must address inquiries to Human Resources Shared Services Center, P.O. Box 970400, Greensboro, NC 27497-0400. Inquiries must include full name, Candidate Identification Number (as provided during the application process) or Employee Identification Number, name and address of facility where last employed, and dates of USPS employment or date of application.

EXEMPTIONS PROMULGATED FOR THE SYSTEM:

Pursuant to 5 U.S.C. 552a(j) and (k), USPS has established regulations at 39 CFR 266.9 that exempt records in this system depending on their purpose.

HISTORY:

February 25, 2019, 84 FR 6022; January 26, 2018, 83 FR 3777; July 19, 2013, 78 FR 43247; February 22, 2013, 78 FR 12368; June 17, 2011, 76 FR 35483; April 29, 2005, 70 FR 22516.

* * * * *

Attorney, Federal Compliance.

SYSTEM NAME AND NUMBER:

USPS 100.100 Recruiting, Examining, and Placement Records.

SECURITY CLASSIFICATION:

None.

SYSTEM LOCATION:

Pre-employment investigation records are located at USPS Human Resources (HR) offices and contractor locations, except for drug screening and medical examination records, which are maintained in USPS medical facilities and designee offices.

Recruiting, examining, and placement records are located at USPS HR offices, Headquarters, Human Resources Shared Services Center, Integrated Business Solutions Services Centers, the Bolger Center for Leadership Development, the National Center for Employee Development, and contractor locations.

SYSTEM MANAGER(S) AND ADDRESS:

Vice President, Human Resources, United States Postal Service, 475 L'Enfant Plaza SW, Washington, DC 20260.

AUTHORITY FOR MAINTENANCE OF THE SYSTEM:

39 U.S.C. 401, 410, 1001, 1005, and 1206.

PURPOSE(S) OF THE SYSTEM:

1. To determine suitability for employment.

2. To provide managers, HR personnel, and medical officers with information for recruiting and recommending appointment of qualified individuals.

3. To administer the USPS fleet card program used to purchase commercial fuel and oil, maintenance repair, polishing and washing, servicing, shuttling, and towing.

4. To facilitate communication between the Postal Service and individual employees, new hires and applicants, including current and former employees.

5. To share relevant information and topics about the Postal Service with individual employees, new hires and applicants, including current and former employees.

6. To gather voluntary feedback from individual employees, new hires and applicants, including current and former employees.

CATEGORIES OF INDIVIDUALS COVERED BY THE SYSTEM:

Current and former USPS employees, new hires, applicants for employment, and potential applicants with candidate profiles.

CATEGORIES OF RECORDS IN THE SYSTEM:

1. Applicant, potential applicants with candidate profiles, and employee information: Name(s), Social Security Number(s), Candidate Identification Number, Employee Identification Number, date(s) of birth, postal assignment or vacancy/job posting history information, work contact information, home address(es) and phone number(s), SMS text message number, personal email address, finance number(s), duty location, pay location, and Fuel Purchase Fleet Card Personal Identification Number (PIN).

2. Pre-employment investigation information: Records compiled by USPS, including criminal, employment, military, and driving records; drug screening and medical assessment results. Also includes Special Agency Check with Inquiries (SACI) and National Agency Check with Inquiry (NACI): Investigative records requested by USPS and compiled by the Office of Personnel Management (OPM) for newly hired employees, including postal inspectors' investigative reports.

3. Recruiting, examining, and placement information: Records related to candidate profiles, applications, test results, interview documentation, and suitability screening.

RECORD SOURCE CATEGORIES:

Applicants; potential applicants with candidate profiles; OPM; police, driving, and military records; former employers and named references; medical service providers; school officials; other federal agencies; and state divisions of vocational rehabilitation counselors.

ROUTINE USES OF RECORDS MAINTAINED IN THE SYSTEM, INCLUDING CATEGORIES OF USERS AND THE PURPOSES OF SUCH USES:

Standard routine uses 1. through 9. apply.

POLICIES AND PRACTICES FOR STORAGE OF RECORDS:

Automated database, computer storage media, and paper.

POLICIES AND PRACTICES FOR RETRIEVAL OF RECORDS:

By applicant or employee name, Social Security Number, Candidate Identification Number, Employee Identification Number, duty or pay location, or posting/vacancy to which application was made, and Fleet Card Personal Identification Number (PIN).

POLICIES AND PRACTICES FOR RETENTION AND DISPOSAL OF RECORDS:

1. Pre-employment investigation records are retained 10 years from the date the individual is initially found suitable for employment, or 10 years from the date action was taken to deny or terminate employment.

2. Candidate information and Candidate Identification Number are retained for a minimum of 2 years. Vacancy files, including applicant/employee name, identification number, posting/vacancy number, and information supplied by applicant/employee in response to the vacancy posting, are retained 5 years. Employment registers are retained 10 years. Certain forms related to a successful applicant are filed in the electronic Official Personnel Folder as permanent records.

3. Paper examining answer sheets are retained 6 months; and computer media copies are retained 10 years. Scanned Maintenance Selection System forms are retained 10 years, and related hiring lists are retained 5 years.

4. Records pertaining to the USPS fuel fleet card purchase program are retained for 10 years.

Records existing on paper are destroyed by burning, pulping, or shredding. Records existing on computer storage media are destroyed according to the applicable USPS media sanitization practice.

ADMINISTRATIVE, TECHNICAL, AND PHYSICAL SAFEGUARDS:

Paper records, computers, and computer storage media are located in controlled-access areas under supervision of program personnel. Access to these areas is limited to authorized personnel, who must be identified with a badge.

Access to records is limited to individuals whose official duties require such access. Contractors and licensees are subject to contract controls and unannounced on-site audits and inspections.

Computers are protected by mechanical locks, card key systems, or other physical access control methods. The use of computer systems is regulated with installed security software, computer logon identifications, and operating system controls including access controls, terminal and transaction logging, and file management software.

RECORD ACCESS PROCEDURES:

Requests for access must be made in accordance with the Notification Procedure above and USPS Privacy Act regulations regarding access to records and verification of identity under 39 CFR 266.5.

CONTESTING RECORD PROCEDURES:

See Notification Procedure and Record Access Procedures above.

NOTIFICATION PROCEDURES:

Individuals wanting to know if information about them is maintained in this system must address inquiries to Human Resources Shared Services Center, P.O. Box 970400, Greensboro, NC 27497-0400. Inquiries must include full name, Candidate Identification Number (as provided during the application process) or Employee Identification Number, name and address of facility where last employed, and dates of USPS employment or date of application.

EXEMPTIONS PROMULGATED FOR THE SYSTEM:

None.

HISTORY:

February 25, 2019, 84 FR 6022; July 19, 2013, 78 FR 43247; June 17, 2011, 76 FR 35483; April 29, 2005, 70 FR 22516.

* * * * *

Attorney, Federal Compliance.

SYSTEM NAME AND NUMBER:

USPS 100.300 Employee Development and Training Records.

SECURITY CLASSIFICATION:

None.

SYSTEM LOCATION:

Management training centers, Integrated Business Solutions Services Centers, other USPS facilities where career development and training records are stored, and contractor sites.

SYSTEM MANAGER(S) AND ADDRESS:

Vice President, Human Resources, United States Postal Service, 475 L'Enfant Plaza SW, Washington, DC 20260.

Vice President, Organization Development, United States Postal Service, 475 L'Enfant Plaza SW, Washington DC 20260.

AUTHORITY FOR MAINTENANCE OF THE SYSTEM:

39 U.S.C. 401, 410, 1001, 1005, and 1206.

PURPOSE(S) OF THE SYSTEM:

1. To provide managers, supervisors, and training and development professionals with decision-making information for employee career development, succession planning, training, and assignment.

2. To make and track employee job assignments, to place employees in new positions, and to assist in career planning and training in general.

3. To provide statistics for personnel and workload management.

4. To provide employees with an online platform that supports individual and career development.

5. To facilitate voluntary information sharing through an enhanced employee profile tool that highlights individual education, knowledge and experience.

6. To provide employees with convenient and flexible online learning options.

7. To create a forum that promotes a culture for participation in voluntary career development activities and opportunities.

8. To create a readily available source of information about current employee talents, skills, and abilities.

9. To communicate with and provide notification to individuals about training assignments and requirements, both prior to and after effective date of employment or placement.

10. To facilitate communication between the Postal Service and individual employees, new hires and applicants, including current and former employees.

11. To share relevant information and topics about the Postal Service with individual employees, new hires and applicants, including current and former employees.

12. To request and gather voluntary feedback from individual employees, new hires and applicants, including current and former employees.

CATEGORIES OF INDIVIDUALS COVERED BY THE SYSTEM:

Current and former USPS employees, new hires and applicants.

CATEGORIES OF RECORDS IN THE SYSTEM:

1. Employee information: Name, Social Security Number, Employee Identification Number, phone number(s), SMS text message number, personal email address, demographic information, photograph, years of service, retirement eligibility, postal assignment information, work contact information, finance number(s), duty location, and pay location.

2. Employee development and training information: Records related to career development, work history, assessments, skills bank participation, USPS- and non-USPS-sponsored training, examinations, evaluations of training, and USPS lodging when a discrepancy report is filed against the student about unauthorized activities while occupying the room.

RECORD SOURCE CATEGORIES:

Employees; employees' supervisor or manager; and other systems of records.

ROUTINE USES OF RECORDS MAINTAINED IN THE SYSTEM, INCLUDING CATEGORIES OF USERS AND THE PURPOSES OF SUCH USES:

Standard routine uses 1. through 9. apply.

POLICIES AND PRACTICES FOR STORAGE OF RECORDS:

Automated database, computer storage media, digital files, and paper files.

POLICIES AND PRACTICES FOR RETRIEVAL OF RECORDS:

By employee name, Social Security Number, or Employee Identification Number.

POLICIES AND PRACTICES FOR RETENTION AND DISPOSAL OF RECORDS:

1. Training records are retained 5 years. Training-related travel records are retained 1 year.

2. Records related to succession planning and individual development planning are retained 10 years.

3. Examination records are retained 1 year after employee separation.

4. Skills bank records are retained up to 2 years.

Records existing on paper are destroyed by burning, pulping, or shredding. Records existing on computer storage media are destroyed according to the applicable USPS media sanitization practice.

ADMINISTRATIVE, TECHNICAL, AND PHYSICAL SAFEGUARDS:

Paper records, computers, and computer storage media are located in controlled-access areas under supervision of program personnel. Access to these areas is limited to authorized personnel, who must be identified with a badge.

Access to records is limited to individuals whose official duties require such access. Contractors and licensees are subject to contract controls and unannounced on-site audits and inspections.

Computers are protected by mechanical locks, card key systems, or other physical access control methods. The use of computer systems is regulated with installed security software, computer logon identifications, and operating system controls including access controls, terminal and transaction logging, and file management software.

RECORD ACCESS PROCEDURES:

Requests for access must be made in accordance with the Notification Procedure above and USPS Privacy Act regulations regarding access to records and verification of identity under 39 CFR 266.5.

CONTESTING RECORD PROCEDURES:

See Notification Procedures below and Record Access Procedures above.

NOTIFICATION PROCEDURES:

Individuals wanting to know if information about them is maintained in this system must address inquiries to the facility head where currently or last employed. Headquarters employees must submit inquiries to Corporate Personnel Management, 475 L'Enfant Plaza SW, Washington, DC 20260. Inquiries must include full name, Social Security Number or Employee Identification Number, name and address of facility where last employed, and dates of USPS employment.

EXEMPTIONS PROMULGATED FOR THE SYSTEM:

Pursuant to 5 U.S.C. 552a(j) and (k), USPS has established regulations at 39 CFR 266.9 that exempt records in this system depending on their purpose. The USPS has also claimed exemption from certain provisions of the Act for several of its other systems of records at 39 CFR 266.9. To the extent that copies of exempted records from those other systems are incorporated into this system, the exemptions applicable to the original primary system continue to apply to the incorporated records.

HISTORY:

July 19, 2013, 78 FR 43247; June 17, 2011, 76 FR 35483; April 29, 2005, 70 FR 22516.

* * * * *

Attorney, Federal Compliance.

SYSTEM NAME AND NUMBER:

USPS 100.400 Personnel Compensation and Payroll Records.

SECURITY CLASSIFICATION:

None.

SYSTEM LOCATION:

USPS Area and District Human Resources offices, the Human Resources Shared Services Center, Integrated Business Solutions Services Centers, Computer Operations Services Centers, Accounting Services Centers, other area and district facilities, USPS Headquarters, contractor sites, and all organizational units.

SYSTEM MANAGER(S) AND ADDRESS:

Deputy Postmaster General and Chief Human Resources Officer, United States Postal Service, 475 L'Enfant Plaza SW, Washington, DC 20260.

Vice President, Human Resources, United States Postal Service, 475 L'Enfant Plaza SW, Washington, DC 20260.

Vice President, Controller, United States Postal Service, 475 L'Enfant Plaza SW, Washington, DC 20260.

AUTHORITY FOR MAINTENANCE OF THE SYSTEM:

39 U.S.C. 401, 409, 410, 1001, 1003, 1004, 1005, and 1206; and 29 U.S.C. 2601 et seq.

PURPOSE(S) OF THE SYSTEM:

1. To support all necessary compensation and payroll activities and related management functions.

2. To generate lists of employee information for home mailings, dues membership, and other personnel support functions.

3. To generate retirement eligibility information and analysis of employees in various salary ranges.

4. To administer the purchase of uniforms.

5. To administer monetary awards programs and employee contests.

6. To detect improper payment related to injury compensation claims.

7. To adjudicate employee claims for loss or damage to their personal property in connection with or incident to their postal duties.

8. To process garnishment of employee wages.

9. To support statistical research and reporting.

10. To generate W-2 and 1095-C information for use with external third-party tax preparation services at the request of the individual employee.

11. To administer the USPS fleet card program used to purchase commercial fuel and oil, maintenance repair, polishing and washing, servicing, shuttling, and towing.

12. To develop and administer voluntary wellness challenges and programs to support individual employee wellness goals.

13. To track and summarize voluntary wellness challenge activities during each program cycle for individual employees and employee team participants

14. To facilitate communication between the Postal Service and current and former employees.

15. To share relevant information and topics about the Postal Service with current and former employees.

CATEGORIES OF INDIVIDUALS COVERED BY THE SYSTEM:

1. Current and former USPS employees and postmaster relief/leave replacement employees.

2. Current and former employees' family members, beneficiaries, and former spouses who apply and qualify for benefits.

3. An agent or survivor of an employee who makes a claim for loss or damage to personal property.

CATEGORIES OF RECORDS IN THE SYSTEM:

1. Employee and family member information: Name(s), Social Security Number(s), Employee Identification Number, ACE ID, date(s) of birth, postal assignment information, work contact information, home address(es) and phone number(s), SMS text message number, personal email address, finance number(s), occupation code, occupation title, duty location, and pay location, and Fuel Purchase Fleet Card Personal Identification Number (PIN).

2. Compensation and payroll information: Records related to payroll, annual salary, hourly rate, Rate Schedule Code (RSC) or pay type, payments, deductions, compensation, and benefits; uniform items purchased; proposals and decisions under monetary awards; suggestion programs and contests; injury compensation; monetary claims for personal property loss or damage; and garnishment of wages.

3. Voluntary Employee Wellness Participant Challenge and Program Tracking and Reporting Activities: Type of wellness activity or program, wellness activities and points tracked and reported, self-selected alias names for participants, department or team name, work duty location, gender, weight, reporting of top tier final results and/or prize winners by wellness challenge or program with employee permission.

RECORD SOURCE CATEGORIES:

Employees; employees' supervisor or manager; other systems of records; claimants or their survivors or agents who make monetary claims; witnesses; investigative sources; courts; and insurance companies.

Voluntary employee wellness participant challenge and program initiative records.

ROUTINE USES OF RECORDS MAINTAINED IN THE SYSTEM, INCLUDING CATEGORIES OF USERS AND THE PURPOSES OF SUCH USES:

Standard routine uses 1. through 9. apply. In addition:

(a) Records pertaining to financial institutions and to nonfederal insurance carriers and benefits providers elected by an employee may be disclosed for the purposes of salary payment or allotments, eligibility determination, claims, and payment of benefits.

(b) Records pertaining to supervisors and postmasters may be disclosed to supervisory and other managerial organizations recognized by USPS.

(c) Records pertaining to recipients of monetary awards may be disclosed to the news media when the information is of news interest and consistent with the public's right to know.

(d) Disclosure of records about current or former Postal Service employees may be made to requesting states under an approved computer matching program to determine employee participation in, and eligibility under, unemployment insurance programs administered by the states (and by those states to local governments), to improve program integrity, and to collect debts and overpayments owed to those governments and their components.

(e) Disclosure of records about current or former Postal Service employees may be made to requesting federal agencies or nonfederal entities under approved computer matching programs to make a determination of employee participation in, and eligibility under, particular benefit programs administered by those agencies or entities or by USPS; to improve program integrity; to collect debts and overpayments owed under those programs and to provide employees with due process rights prior to initiating any salary offset; and to identify those employees who are absent parents owing child support obligations and to collect debts owed as a result.

(f) Disclosure of records about current or former Postal Service employees may be made, upon request, to the Department of Defense (DoD) under approved computer matching programs to identify Postal Service employees who are ready reservists for the purposes of updating DoD's listings of ready reservists and to report reserve status information to USPS and the Congress; and to identify retired military employees who are subject to restrictions under the Dual Compensation Act and to take subsequent actions to reduce military retired pay or collect debts and overpayments.

(g) Disclosure of records may be made to the Internal Revenue Service under approved computer matching programs to identify current or former Postal Service employees who owe delinquent federal taxes or returns and to collect the unpaid taxes by levy on the salary of those individuals pursuant to Internal Revenue Code; and to make a determination as to the proper reporting of income tax purposes of an employee's wages, expenses, compensation, reimbursement, and taxes withheld and to take corrective action as warranted.

(h) Disclosure of the records about current or recently terminated Postal Service employees may be made to the Department of Transportation (DOT) under an approved computer matching program to identify individuals who appear in DOT's National Driver Register Problem Driver Pointer System. The matching results are used only to determine as a general matter whether commercial license suspension information within the pointer system would be beneficial in making selections of USPS motor vehicle and tractor-trailer operator personnel and will not be used for actual selection decisions.

(i) Disclosure of records about current or former Postal Service employees may be made to the Department of Health and Human Services under an approved computer matching program for further release to state child support enforcement agencies when needed to locate noncustodial parents, to establish and/or enforce child support obligations, and to locate parents who may be involved in parental kidnapping or child custody cases.

(j) Disclosure of records about current or former Postal Service employees may be made to the Department of the Treasury under Treasury Offset Program computer matching to establish the identity of the employee as an individual owing a delinquent debt to another federal agency and to offset the salary of the employee to repay that debt.

(k) Disclosure of employment and wage data records about current Postal Service employees may be made to the Bureau of Labor Statistics for use in their Occupational Employment Statistics program for the purpose of developing estimates of the number of jobs in certain occupations, and estimates of the wages paid to them.

(l) Disclosure of W-2 and 1095-C tax information records to external third-party tax preparation services.

POLICIES AND PRACTICES FOR STORAGE OF RECORDS:

Automated database, computer storage media, digital files, and paper files.

POLICIES AND PRACTICES FOR RETRIEVAL OF RECORDS:

By employee name, Social Security Number, Employee Identification Number, Fuel Purchase Fleet Card Personal Identification Number (PIN), or duty or pay location.

POLICIES AND PRACTICES FOR RETENTION AND DISPOSAL OF RECORDS:

1. Leave application and unauthorized overtime records are retained 3 years. Time and attendance records (other than payroll) and local payroll records are retained 3 years. Automated payroll records are retained 10 years.

2. Uniform allowance case files are retained 3 years; and automated records are retained 6 years.

3. Records of monetary awards with a status that they have been processed, failed processing, cancelled, or reported (Service Award Pins, Retirement Service Awards, Posthumous Service Awards) are retained 7 years, as payroll records would have been affected/processed. Records of award submissions with the status approved, deleted, or as a draft are retained 31 days, as payroll records would not have been affected/processed.

4. Records of employee-submitted ideas are maintained for 90 days after being closed.

5. Injury compensation records are retained 5 years. Records resulting in affirmative identifications become part of a research case file, which if research determines applicability, become either part of an investigative case record or a remuneration case record that is retained 2 years beyond the determination.

6. Monetary claims records are retained 3 years.

7. Automated records of garnishment cases are retained 6 months. Records located at a Post Office are retained 3 years.

8. Overtime administrative records are retained for 7 years.

9. Tax preparation records are limited to an employee's previous year's wages, tax documentation, and health insurance coverage as required by the Affordable Care Act.

10. Records pertaining to the USPS fuel fleet card purchase program are retained for 10 years.

11. Records related to voluntary wellness challenges and programs will be retained for 30 days after the conclusion of each challenge or program cycle.

Records existing on paper are destroyed by burning, pulping, or shredding. Records existing on computer storage media are destroyed according to the applicable USPS media sanitization practice.

ADMINISTRATIVE, TECHNICAL, AND PHYSICAL SAFEGUARDS:

Paper records, computers, and computer storage media are located in controlled-access areas under supervision of program personnel. Access to these areas is limited to authorized personnel, who must be identified with a badge.

Access to records is limited to individuals whose official duties require such access. Contractors and licensees are subject to contract controls and unannounced on-site audits and inspections.

Computers are protected by mechanical locks, card key systems, or other physical access control methods. The use of computer systems is regulated with installed security software, computer logon identifications, and operating system controls including access controls, terminal and transaction logging, and file management software.

For the voluntary employee wellness initiative, employees will create their own profile and enter their own challenge activity progress. Employees without access to U.S. Postal Service computers and employees voluntarily participating in the weight loss challenges may opt-in to a manual process to have their profile created and entries updated by a designated wellness challenge coordinator for their geographic location.

Participant alias names will be used in all wellness program dashboard participant input and activity reporting to protect the privacy of individuals. In addition, weight loss challenge dashboards will only display the percentage of weight loss for the employee by alias names, rather than actual weights.

RECORD ACCESS PROCEDURES:

Requests for access must be made in accordance with the Notification Procedure above and USPS Privacy Act regulations regarding access to records and verification of identity under 39 CFR 266.5.

CONTESTING RECORD PROCEDURES:

See Notification Procedure and Record Access Procedures above.

NOTIFICATION PROCEDURES:

Individuals wanting to know if information about them is maintained in this system must address inquiries to the facility head where currently or last employed. Headquarters employees must submit inquiries to Corporate Personnel Management, 475 L'Enfant Plaza SW, Washington, DC 20260. Inquiries must include full name, Social Security Number or Employee Identification Number, name and address of facility where last employed, and dates of USPS employment.

EXEMPTIONS PROMULGATED FOR THE SYSTEM:

Records in this system relating to injury compensation that have been compiled in reasonable anticipation of a civil action or proceeding are exempt from individual access as permitted by 5 U.S.C. 552a(d)(5). The USPS has also claimed exemption from certain provisions of the Act for several of its other systems of records at 39 CFR 266.9. To the extent that copies of exempted records from those other systems are incorporated into this system, the exemptions applicable to the original primary system continue to apply to the incorporated records.

HISTORY:

June 15, 2020, 85 FR 29492; February 25, 2019, 84 FR 6022; February 23, 2017, 82 FR 11489; March 2, 2015, 80 FR 11241; June 17, 2011, 76 FR 35483; April 29, 2005, 70 FR 22516.

Joshua J. Hofer,
Attorney, Ethics & Legal Compliance.

[FR Doc. 2021-17250 Filed 8-17-21; 8:45 am]

BILLING CODE 7710-12-P